DEPARTMENT OF TRANSPORTATION

Federal Aviation Administration

14 CFR Part 39

[Docket No. FAA-2008-1079; Directorate Identifier 2008-NM-116-AD]

RIN 2120-AA64

Airworthiness Directives; Empresa Brasileira de Aeronautica S.A. (EMBRAER) Model EMB-135ER, -135KE, -135KL, and -135LR Airplanes, and Model EMB-145, -145ER, -145MR, -145LR, -145XR, -145MP, and -145EP Airplanes

AGENCY: Federal Aviation Administration (FAA), DOT.

ACTION: Supplemental notice of proposed rulemaking (NPRM); reopening of comment period.

SUMMARY: We are revising an earlier NPRM for the products listed above that would supersede an existing AD. This action revises the earlier NPRM by expanding the scope. This proposed AD results from mandatory continuing airworthiness information (MCAI) originated by an aviation authority of another country to identify and correct an unsafe condition on an aviation product. The earlier MCAI, Brazilian Airworthiness Directive 2007-08-02, effective September 27, 2007, describes the unsafe condition as:

Fuel system reassessment, performed according to RBHA-E88/SFAR-88 (Regulamento Brasileiro de Homologacao Aeronautica 88/Special Federal Aviation Regulation No. 88), requires the inclusion of new maintenance tasks in the Critical Design Configuration Control Limitations (CDCCL) and in the Fuel System Limitations (FSL), necessary to preclude ignition sources in the fuel system. * * *

The new MCAI, Brazilian Airworthiness Directive 2009-08-03, effective August 20, 2009, describes the unsafe condition as:

An airplane fuel tank systems review required by Special Federal Aviation Regulation Number 88 (SFAR 88) and “RBHA Especial Número 88” (RBHA E 88) has shown that additional maintenance and inspection instructions are necessary to maintain the design features required to preclude the existence or development of an ignition source within the fuel tanks of the airplane.

The proposed AD would require actions that are intended to address the unsafe condition described in the MCAI.

DATES: We must receive comments on this proposed AD by April 19, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Empresa Brasileira de Aeronautica S.A. (EMBRAER), Technical Publications Section (PC 060), Av. Brigadeiro Faria Lima, 2170—Putim—12227-901 São Jose dos Campos—SP—BRASIL; telephone: +55 12 3927-5852 or +55 12 3309-0732; fax: +55 12 3927-7546; e-mail: distrib@embraer.com.br; Internet: http://www.flyembraer.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2008-1079; Directorate Identifier 2008-NM-116-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We proposed to amend 14 CFR part 39 with an earlier NPRM for the specified products, which was published in the Federal Register on October 16, 2008 (73 FR 61372). That earlier NPRM proposed to supersede AD 2008-13-14, Amendment 39-15577 (73 FR 35904, June 25, 2008), to require actions intended to address the unsafe condition for the products listed above.

Since that NPRM was issued, the Agência Nacional de Aviação Civil (ANAC), which is the aviation authority for Brazil, has issued Airworthiness Directive 2009-08-03, effective August 20, 2009 (referred to after this as “the MCAI”), to correct an unsafe condition for the specified products. The MCAI states:

An airplane fuel tank systems review required by Special Federal Aviation Regulation Number 88 (SFAR 88) and “RBHA Especial Número 88” (RBHA E 88) has shown that additional maintenance and inspection instructions are necessary to maintain the design features required to preclude the existence or development of an ignition source within the fuel tanks of the airplane.

The corrective action is revising the Airworthiness Limitations Section (ALS) of the Instructions for Continued Airworthiness (ICA) to incorporate new limitations for fuel tank systems. You may obtain further information by examining the MCAI in the AD docket.

Additional Actions Since NPRM Was Issued

Since we issued the earlier NPRM, which included a proposal to require incorporation of critical design configuration control limitations (CDCCLs), we have determined that it is necessary to clarify the proposed AD's intended effect on spare and on-airplane fuel tank system components, regarding the use of maintenance manuals and instructions for continued airworthiness.

Section 91.403(c) of the Federal Aviation Regulations (14 CFR 91.403(c)) specifies the following:

No person may operate an aircraft for which a manufacturer's maintenance manual or instructions for continued airworthiness has been issued that contains an airworthiness limitation section unless the mandatory procedures have been complied with.

Some operators have questioned whether existing components affected by the new CDCCLs must be reworked. We did not intend for the AD to retroactively require rework of components that had been maintained using acceptable methods before the effective date of the AD. Owners and operators of the affected airplanes therefore are not required to rework affected components identified as airworthy or installed on the affected airplanes before the required revisions of the ALS of the ICA. But once the CDCCLs are incorporated into the ALS of the ICA, future maintenance actions on components must be done in accordance with those CDCCLs.

Comments

We have considered the following comments received on the earlier NPRM.

Request To Revise Actions Specified in Table 2 of the NPRM

Embraer requests that we revise the actions specified in Table 2 of the NPRM (functional checks of the fuel conditioning unit (FCU) and the ventral FCU). Embraer states that a functional check of the FCU would not entirely address the unsafe condition and that a functional check of the safe-life features is necessary. Embraer notes that Parker revised Component Maintenance Manual (CMM) 28-41-36 on March 5, 2007, to include a functional check of the safe-life features for FCU part number (P/N) 367-934-001. Embraer recommends that a functional check of the safe-life features and inspections to ensure the safe-life features be included in Table 2 of the NPRM. Embraer also suggests that Parker Service Bulletin 367-934-28-110, Revision A, dated December 19, 2006, be included as an optional method of compliance for doing the safe-life check.

We agree to revise Table 2 of the supplemental NPRM to include new actions to check and inspect safe-life features in order to adequately address the identified unsafe condition. We have revised Table 2 of this AD to include FCU P/Ns 367-934-001, 367-934-002, and 367-934-005. However, we have not included Parker Service Bulletin 367-934-28-110, Revision A, dated December 19, 2006, as an optional method of compliance because that service bulletin does not refer to a specific component maintenance manual. Instead, we have included the Parker CMMs for these part numbers in Table 2 of this AD, as specified in the following table. We have coordinated this action with ANAC.

Parker Service Information
Document | Revision | Date
Parker Component Maintenance Manual 28-41-36 with Illustrated Parts List for Fuel Conditioning Unit Part Number 367-934-001 | 4 | March 13, 2009.
Parker Component Maintenance Manual 28-41-69 with Illustrated Parts List for Fuel Conditioning Unit Part Number 367-934-002 | 2 | March 13, 2009.
Parker Component Maintenance Manual 28-41-80 with Illustrated Parts List for Fuel Conditioning Unit Part Number 367-934-005 | Original | April 3, 2009.

Request To Extend Compliance Time

Two commenters request that we revise the “grace period” specified in Table 2 of the NPRM. ExpressJet Airlines states that the availability of parts is a concern because many parts will be affected by the end of the grace period (i.e., “90 days after December 16, 2008”) specified in the NPRM. ExpressJet Airlines suggests that for operators that did a functional check on the part, the grace period should be revised to allow an additional 180 days for those parts. Chautauqua Airlines also states that the grace period should be extended due to lack of availability of parts.

We partially agree with the request to revise the compliance time. Although we have not revised the compliance time as requested by the commenter, we have revised the “Grace Period” specified in Table 2 of the supplemental NPRM from “Within 90 days after December 16, 2008” to “Within 90 days after the effective date of this AD.” In addition, under the provisions of paragraph (h)(1) of the supplemental NPRM, we will consider requests for approval of an extension of the compliance time if sufficient data are submitted to substantiate that the new compliance time would provide an acceptable level of safety.

Request To Clarify Actions

Parker Hannifin states that the FCU is subject to fuel system limitations (FSL) as defined in FAA Advisory Circular 25.981-1B. The commenter states that there is an equivalent level of safety (ELS) for continued airworthiness of the FCUs and that ESL specifies a 10,000-flight-hour interval for a safe-life test, which includes a physical inspection of FCU components and additional testing. The commenter notes that returned units are subject to normal functional checks only. The commenter concludes that the only way to be sure that all inspections and tests of the safe-life test are done is if there is an explicit request to do all actions or if the part is returned under a previous agreement to perform the safe-life test; then the FCU may be marked in accordance with the service bulletins.

We acknowledge Parker Hannifin's comments and infer the commenter is requesting clarification of the actions. As stated previously, we have revised Table 2 of the NPRM to clarify the actions; this supplemental NPRM would require the actions for the safe-life test specified in Table 2 of the supplemental NPRM.

We have also revised paragraph (g)(1) of this supplemental NPRM to clarify that the new tasks are part of the ALS of the ICA and added a 30-day compliance time to revise the ALS of the ICA to incorporate the new tasks.

Clarification of Service Information

The purpose of paragraph (f)(1) of the NPRM was to define the term “MRBR” as EMBRAER EMB135/ERJ140/EMB145 Maintenance Review Board Report (MRBR) MRB-145/1150, Revision 11, dated September 19, 2007. However, instead of using the term “MRBR” in this supplemental NPRM, we have used the full document citation throughout, as appropriate. Therefore, we have removed paragraph (f)(1) of the NPRM from this supplemental NPRM and have revised the subsequent paragraph identifiers accordingly.

Explanation of Change to Costs of Compliance

Since issuance of the original NPRM, we have increased the labor rate used in the Costs of Compliance from $80 per work-hour to $85 per work-hour. The Costs of Compliance information, below, reflects this increase in the specified hourly labor rate.

FAA's Determination and Requirements of this Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the earlier NPRM. As a result, we have determined that it is necessary to reopen the comment period to provide additional opportunity for the public to comment on this proposed AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 41 products of U.S. registry.

The actions that are required by AD 2008-13-14 and retained in this proposed AD take about 1 work-hour per product, at an average labor rate of $85 per work hour. Based on these figures, the estimated cost of the currently required actions is $85 per product.

We estimate that it would take about 1 work-hour per product to comply with the new basic requirements of this proposed AD. The average labor rate is $85 per work-hour. Based on these figures, we estimate the cost of the proposed AD on U.S. operators to be $3,485, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15577 (73 FR 35904, June 25, 2008) and adding the following new AD:

Empresa Brasileira de Aeronautica S.A. (EMBRAER): Docket No. FAA-2008-1079; Directorate Identifier 2008-NM-116-AD.

Comments Due Date

(a) We must receive comments by April 19, 2010.

Affected ADs

(b) This AD supersedes AD 2008-13-14, Amendment 39-15577.

Applicability

(c) This AD applies to Empresa Brasileira de Aeronautica S.A. (EMBRAER) Model EMB-135ER, -135KE, -135KL, and -135LR airplanes, and Model EMB-145, -145ER, -145MR, -145LR, -145XR, -145MP, and -145EP airplanes; certificated in any category; except for Model EMB-145LR airplanes modified according to Brazilian Supplemental Type Certificate 2002S06-09, 2002S06-10, or 2003S08-01.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (h) of this AD. The request should include a description of changes to the required inspections that will ensure the continued operational safety of the airplane.

Subject

(d) Air Transport Association (ATA) of America Code 28: Fuel.

Reason

(e) The mandatory continuing airworthiness information (MCAI), Brazilian Airworthiness Directive 2007-08-02, effective September 27, 2007, states:

Fuel system reassessment, performed according to RBHA-E88/SFAR-88 (Regulamento Brasileiro de Homologacao Aeronautica 88/Special Federal Aviation Regulation No. 88), requires the inclusion of new maintenance tasks in the Critical Design Configuration Control Limitations (CDCCL) and in the Fuel System Limitations (FSL), necessary to preclude ignition sources in the fuel system. * * *

The MCAI, Brazilian Airworthiness Directives 2009-08-03, effective August 20, 2009, states:

An airplane fuel tank systems review required by Special Federal Aviation Regulation Number 88 (SFAR 88) and “RBHA Especial Número 88” (RBHA E 88) has shown that additional maintenance and inspection instructions are necessary to maintain the design features required to preclude the existence or development of an ignition source within the fuel tanks of the airplane.

The corrective action is revising the Airworthiness Limitations Section (ALS) of the Instructions for Continued Airworthiness (ICA) to incorporate new limitations for fuel tank systems.

Restatement of Requirements of AD 2008-13-14

Actions and Compliance

(f) Unless already done, do the following actions.

(1) Before December 16, 2008, revise the ALS of the ICA to incorporate Section A2.5.2, Fuel System Limitation Items, of Appendix 2 of EMBRAER EMB135/ERJ140/EMB145 Maintenance Review Board Report MRB-145/1150, Revision 11, dated September 19, 2007, except as provided by paragraph (g) of this AD. Except as required by paragraph (g) of this AD, for all tasks identified in Section A2.5.2 of Appendix 2 of EMBRAER EMB135/ERJ140/EMB145 Maintenance Review Board Report MRB-145/1150, Revision 11, dated September 19, 2007, the initial compliance times start from the applicable times specified in Table 1 of this AD; and the repetitive inspections must be accomplished thereafter at the interval specified in Section A2.5.2 of Appendix 2 of EMBRAER EMB135/ERJ140/EMB145 Maintenance Review Board Report MRB-145/1150, Revision 11, dated September 19, 2007, except as provided by paragraphs (f)(3) and (h) of this AD.

Table 1—Initial Inspections
Reference No. | Description | Compliance time (whichever occurs later): Threshold | Compliance time (whichever occurs later): Grace period
28-11-00-720-001-A00 | Functionally Check critical bonding integrity of selected conduits inside the wing tank, Fuel Pump and FQIS connectors at tank wall by conductivity measurements | Before the accumulation of 30,000 total flight hours | Within 90 days after December 16, 2008.
28-17-01-720-001-A00 | Functionally Check critical bonding integrity of Fuel Pump, VFQIS and Low Level SW connectors at tank wall by conductivity measurements | Before the accumulation of 30,000 total flight hours | Within 90 days after December 16, 2008.
28-21-01-220-001-A00 | Inspect Electric Fuel Pump Connector | Before the accumulation of 10,000 total flight hours | Within 90 days after December 16, 2008.
28-23-03-220-001-A00 | Inspect Pilot Valve harness inside the conduit | Before the accumulation of 20,000 total flight hours | Within 90 days after December 16, 2008.
28-23-04-220-001-A00 | Inspect Vent Valve harness inside the conduit | Before the accumulation of 20,000 total flight hours | Within 90 days after December 16, 2008.
28-27-01-220-001-A00 | Inspect Electric Fuel Transfer Pump Connector | Before the accumulation of 10,000 total flight hours | Within 90 days after December 16, 2008.
28-41-03-220-001-A00 | Inspect FQIS harness for clamp and wire jacket integrity | Before the accumulation of 20,000 total flight hours | Within 90 days after December 16, 2008.
28-41-07-220-001-A00 | Inspect VFQIS and Low Level SW Harness for clamp and wire jacket integrity | Before the accumulation of 20,000 total flight hours | Within 90 days after December 16, 2008.

(2) Within 90 days after July 30, 2008 (the effective date of AD 2008-13-14), revise the ALS of the ICA to incorporate items 1, 2, and 3 of Section A2.4, Critical Design Configuration Control Limitation (CDCCL), of Appendix 2 of EMBRAER EMB135/ERJ140/EMB145 Maintenance Review Board Report MRB-145/1150, Revision 11, dated September 19, 2007.

(3) After accomplishing the actions specified in paragraphs (f)(1) and (f)(2) of this AD, no alternative inspections, inspection intervals, or CDCCLs may be used unless the inspections, intervals, or CDCCLs are approved as an alternative method of compliance (AMOC) in accordance with the procedures specified in paragraph (h) of this AD.

New Requirements of This AD

Actions and Compliance

(g) Unless already done, do the following actions.

(1) Within 30 days after the effective date of this AD, revise the ALS of the ICA to incorporate Tasks 28-41-01-720-001-A01 and 28-41-04-720-001-A01 identified in Table 2 of this AD into Section A2.5.2, Fuel System Limitation Items, of Appendix 2 of EMBRAER EMB135/ERJ140/EMB145 Maintenance Review Board Report MRB-145/1150. After incorporating Tasks 28-41-01-720-001-A01 and 28-41-04-720-001-A01 identified in Table 2 of this AD, Tasks 28-41-01-720-001-A00 and 28-41-04-720-001-A00 identified in Section A2.5.2 of Appendix 2 of EMBRAER EMB135/ERJ140/EMB145 Maintenance Review Board Report MRB-145/1150, Revision 11, dated September 19, 2007, are no longer required. For the fuel limitation tasks identified in Table 2 of this AD, do the initial task at the later of the applicable “Threshold” and “Grace Period” times specified in Table 2 of this AD.

Table 2—Inspections
Task No. | Description | Part No. | Compliance time (whichever occurs later): Threshold | Compliance time (whichever occurs later): Grace period | Repetitive interval (not to exceed)
28-41-01-720-001-A01 | Perform an initial functional check as shown in Testing and Fault Isolation sections 1, 2, and 3; an external visual inspection as shown in the Check section 2; an internal visual inspection as shown in the Repair section; a functional check of the safe-life features as shown in Testing and Fault isolation section 4; and a final functional check as shown in Testing and Fault isolation sections 1, 2, and 3; of the fuel conditioning unit (FCU), in accordance with Parker CMM 28-41-36, Revision 4, dated March 13, 2009 | 367-934-001 | Before the accumulation of 10,000 total flight hours on the FCU | Within 90 days after the effective date of this AD | 10,000 flight hours on the FCU since the most recent functional check.
28-41-01-720-001-A01 | Perform an initial functional check as shown in Testing and Fault Isolation sections 1, 2, and 3; an external visual inspection as shown in Check section 2; an internal visual inspection as shown in Repair section 1; a functional check of the safe-life features as shown in Testing and Fault Isolation section 4; and a final functional check as shown in Testing and Fault isolation sections 1, 2, and 3; of the fuel conditioning unit (FCU), in accordance with Parker CMM 28-41-69, Revision 2, dated March 13, 2009 | 367-934-002 | Before the accumulation of 10,000 total flight hours on the FCU | Within 90 days after the effective date of this AD | 10,000 flight hours on the FCU since the most recent functional check.
28-41-04-720-001-A01 | Perform an initial functional check as shown in Testing and Fault Isolation sections 1, 2, and 3; an external visual inspection as shown in Check section 2; an internal visual inspection as shown in Repair section 1; a functional check of the safe-life features as shown in Testing and Fault Isolation section 4; and a final functional check as shown in Testing and Fault isolation sections 1, 2, and 3; of the ventral FCU (VFCU), in accordance with Parker CMM 28-41-80, dated April 3, 2009 | 367-934-005 | Before the accumulation of 10,000 total flight hours on the VFCU | Within 90 days after the effective date of this AD | 10,000 flight hours on the VFCU since the most recent functional check.

(2) After accomplishing the actions specified in paragraphs (g)(1) of this AD, no alternative inspections or inspection intervals may be used unless the inspections or intervals are approved as an AMOC in accordance with the procedures specified in paragraph (h)(1) of this AD.

Explanation of CDCCL Requirements

Note 2: Notwithstanding any other maintenance or operational requirements, components that have been identified as airworthy or installed on the affected airplanes before the revision of the ALS of the ICA, as required by paragraph (f)(3) of this AD, do not need to be reworked in accordance with the CDCCLs. However, once the ALS of the ICA has been revised, future maintenance actions on these components must be done in accordance with the CDCCLs.

FAA AD Differences

Note 3: This AD differs from the MCAI and/or service information as follows:

(1) Brazilian Airworthiness Directive 2009-08-03, effective August 20, 2009, specifies that actions accomplished before the effective date of that AD, in accordance with Parker Service Bulletin 367-934-28-110, Revision A, dated December 19, 2006, are considered acceptable for compliance with the corresponding actions specified in the AD. This AD specifies that actions accomplished in accordance with the applicable Parker CMM listed in Table 2 of this AD are considered acceptable for compliance.

(2) The applicability of ANAC AD 2009-08-03 includes Model EMB-135BJ airplanes. This AD does not include that model because that model is included in the applicability of FAA AD 2008-13-15, Amendment 39-15578. We are considering further rulemaking to revise AD 2008-13-15.

(3) Although Brazilian Airworthiness Directive 2009-08-03, effective August 20, 2009, specifies both revising the airworthiness limitations and repetitively inspecting, this AD only requires the revision. Requiring a revision of the airworthiness limitations, rather than requiring individual repetitive inspections, requires operators to record AD compliance status only at the time they make the revision, rather than after every inspection. Repetitive inspections specified in the airworthiness limitations must be complied with in accordance with 14 CFR 91.403(c).

Other FAA AD Provisions

(h) The following provisions also apply to this AD:

(1) Alternative Methods of Compliance (AMOCs): The Manager, International Branch, ANM-116, FAA, has the authority to approve AMOCs for this AD, if requested using the procedures found in 14 CFR 39.19. Send information to ATTN: Todd Thompson, Aerospace Engineer, International Branch, ANM-116, Transport Airplane Directorate, FAA, 1601 Lind Avenue SW., Renton, Washington 98057-3356; telephone (425) 227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI Brazilian Airworthiness Directives 2007-08-02, effective September 27, 2007, and 2009-08-03, effective August 20, 2009; Sections A2.5.2, Fuel System Limitation Items, and A2.4, Critical Design Configuration Control Limitation (CDCCL), of Appendix 2 of EMBRAER EMB135/ERJ140/EMB145 Maintenance Review Board Report MRB-145/1150, Revision 11, dated September 19, 2007; and the Parker CMMs listed in Table 2 of this AD; for related information.

Issued in Renton, Washington on March 16, 2010.
Ali Bahrami,
Manager, Transport Airplane Directorate, Aircraft Certification Service.

[FR Doc. 2010-6309 Filed 3-22-10; 8:45 am]

BILLING CODE 4910-13-P